DEPARTMENT OF ENERGY

Federal Energy Regulatory Commission

[Project No. 14768-000]

Energy Resources USA Inc.; Notice Of Preliminary Permit Application Accepted For Filing and Soliciting Comments, Motions To Intervene, and Competing Applications

On March 11, 2016, the Energy Resources USA Inc. filed an application for a preliminary permit under section 4(f) of the Federal Power Act proposing to study the feasibility of the proposed Salamonie Lake Dam Hydroelectric Project No. 14768-000, to be located at the existing Salamonie Lake Dam on the Salamonie River, near the town of Wabash, in Wabash County, Indiana. The Salamonie Lake Dam is owned by the United States government and operated by the U.S. Army Corps of Engineers, Louisville District.

The proposed project would consist of: (1) A new 15-foot by 10-foot by 90-foot-long concrete conduit; (2) a new 98-foot by 45-foot reinforced concrete powerhouse containing two 2.5-megawatt (MW) vertical Kaplan turbine-generators having a total combined generating capacity of 5 MW; (3) a new 300-foot-long by 95-foot-wide tailrace; (4) a new 60-foot-long by 50-foot-wide substation with a 6-mega-volt-ampere 4.16/69-kilovolt three-phase step-up transformer; (5) a new 2-mile-long, 69-kilovolt transmission line; and (6) appurtenant facilities. The project would have an estimated annual generation of 13.76 gigawatt-hours.

Applicant Contact: Mr. Ander Gonzalez, 350 Lincoln Road, 2nd Floor, Miami, FL 33139; telephone (954) 248-8425.

FERC Contact: Sergiu Serban, (202) 502-6211.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14768-000.

More information about this project, including a copy of the application, can be viewed or printed on the “eLibrary” link of Commission's Web site at http://www.ferc.gov/docs-filing/elibrary.asp. Enter the docket number (P-14768) in the docket number field to access the document. For assistance, contact FERC Online Support.

Dated: April 22, 2016.
Kimberly D. Bose,
Secretary.

[FR Doc. 2016-09937 Filed 4-27-16; 8:45 am]

BILLING CODE 6717-01-P